DEPARTMENT OF COMMERCE

National Oceanic and Atmospheric Administration

[Docket No. 080626787-8788-01]

RIN 0648-XP54

2009 Monkfish Research Set-Aside Program

AGENCY: National Marine Fisheries Service (NMFS), National Oceanic and Atmospheric Administration (NOAA), Commerce.

ACTION: Notice; reallocation of set-aside days-at-sea.

SUMMARY: NMFS notifies the public of the reallocation of monkfish research days-at-sea (DAS) as exempted DAS. These are DAS that were set aside under the 2009 Monkfish Research Set-Aside (RSA) Program, but were not distributed through the NOAA grant process. These exempted DAS may be used for the conduct of monkfish related research activities during fishing year (FY) 2009 (May 1, 2009, through April 30, 2010). Requests for a monkfish DAS exemption must be submitted with a complete application for an exempted fishing permit (EFP).

DATES: Effective June 17, 2009 through April 30, 2010. Projects involving the use of exempted DAS, under this program, must be completed on or before April 30, 2010.

ADDRESSES: Applications for an EFP must be sent to the Regional Administrator, NMFS, Northeast Regional Office, One Blackburn Drive, Gloucester, MA 01930.

FOR FURTHER INFORMATION CONTACT: Allison McHale, Fishery Policy Analyst, by phone 978-281-9103 or by fax 978-281-9135.

SUPPLEMENTARY INFORMATION:

Background

Amendment 2 to the Monkfish Fishery Management Plan (FMP) (70 FR 21927, April 28, 2005) established the Monkfish RSA Program, which annually sets aside 500 monkfish DAS from the total number of monkfish DAS allocated to limited access monkfish vessels to be used for cooperative monkfish research programs. Amendment 2 also established a Monkfish Exemption Program, which requires the Regional Administrator (RA) to reallocate as exempted DAS any monkfish research DAS not allocated through the Monkfish RSA Program. These exempted DAS may be then used by vessels for the conduct of monkfish research activities during the current fishing year (e.g., FY 2009).

On July 11, 2008, NMFS published a notice in the Federal Register announcing the 2009 Monkfish RSA Program (73 FR 40052), and solicited proposals for monkfish research activities to be conducted under this RSA program. Five proposals were received as part of this solicitation, and three were granted awards totaling 449 monkfish research DAS. As a result, there are 51 DAS available to be reallocated as exempted DAS during FY 2009. Therefore, the RA, pursuant to the regulations governing the monkfish fishery at 50 CFR 648.92(c)(1)(v), reallocates these unused research DAS from the FY 2009 Monkfish RSA Program, as exempted DAS, that may be used for the conduct of monkfish research projects during FY 2009.

All requests for monkfish DAS exemptions under the Monkfish DAS Exemption Program must be submitted to the RA along with a complete application for an EFP. The requirements for submitting a complete EFP application are provided in the regulations implementing the Magnuson-Stevens Fishery Conservation and Management Act at § 600.745(b).

Classification

This action is required by 50 CFR part 648 and is exempt from review under Executive Order 12866.

Pursuant to 5 U.S.C.553(b)(B), there is good cause to waive prior notice and opportunity for public comment on this action, as notice and comment would be unnecessary and contrary to the public interest because the action is administrative in nature, and because it provides the public (i.e., researchers) the opportunity to reduce costs associated with conducting monkfish related research activities. Additionally, there is good cause under 5 U.S.C. 553(d)(3) to waive the 30-day delay in effective date because the action is administrative in nature.

Authority: 16 U.S.C. 1801 et seq.

Dated: June 11, 2009.
Kristen C. Koch,
Acting Director, Office of Sustainable Fisheries, National Marine Fisheries Service.

[FR Doc. E9-14263 Filed 6-16-09; 8:45 am]

BILLING CODE 3510-22-S